DEPARTMENT OF HEALTH AND HUMAN SERVICES

Centers for Disease Control and Prevention

[60Day-06-0457]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Aggregate Reports for Tuberculosis Program Evaluation (OMB No. 0920-0457)—Extension—National Center for HIV, STD, and TB Prevention (NCHSTP), Centers for Disease Control and Prevention (CDC).

Background and Brief Description

The National Center for HIV, STD, and TB Prevention, Division of Tuberculosis Elimination (DTBE) is requesting a 3-year extension of OMB No. 0920-0457, to continue the Aggregate Reports for Tuberculosis Program Evaluation. There are no revisions to the report forms, data definitions, or reporting instructions.

In order to facilitate the elimination of tuberculosis in the United States, key program activities must continue to be monitored. These key activities include finding tuberculosis infections in recent cases and in other persons likely to be infected and providing therapy for latent tuberculosis infection.

In 2000, CDC implemented two program evaluation reports for annual submission: Aggregate Report of Follow-up for Contacts of Tuberculosis and Aggregate Report of Screening and Preventive Therapy for Tuberculosis Infection. The respondents for the reports are the 68 state and local tuberculosis control programs receiving federal cooperative agreement funding through DTBE. The reports emphasize treatment outcomes, high-priority target populations vulnerable to tuberculosis, programmed electronic report entry and submission through the Tuberculosis Information Management System (TIMS).

CDC is the only federal agency collecting this type of national tuberculosis data. These reports are the only data sources about latent tuberculosis infection for monitoring national progress toward tuberculosis elimination. CDC provides ongoing assistance in the preparation and utilization of these reports at the local and state levels of public health. CDC also provides respondents with technical support for the TIMS software. There is no cost to the respondents other than their time.

Estimated Annualized Burden Hours
Respondents | Number of respondents | Number of responses per respondent | Average burden per response (in hours) | Total burden hours
State and Local TB Control Programs | 68 | 1 | 1½ | 102
State and Local TB Control Programs | 68 | 1 | 1½ | 102
Total |  |  |  | 204

Dated: May 17, 2006.
Joan Karr,
Acting Reports Clearance Officer, Centers for Disease Control and Prevention.

[FR Doc. E6-7907 Filed 5-23-06; 8:45 am]

BILLING CODE 4163-18-P